DEPARTMENT OF COMMERCE

International Trade Administration

[A-331-802]

Certain Frozen Warmwater Shrimp From Ecuador; Notice of Amended Initiation and Amended Partial Rescission of Antidumping Duty Administrative Review

AGENCY: Import Administration, International Trade Administration, Department of Commerce.

EFFECTIVE DATE: September 19, 2006.

FOR FURTHER INFORMATION CONTACT: David Goldberger or Gemal Brangman, AD/CVD Operations, Office 2, Import Administration, International Trade Administration, U.S. Department of Commerce, 14th Street and Constitution Avenue, NW., Washington, DC 20230; telephone (202) 482-4136 and (202) 482-3773, respectively.

Background

On April 7, 2006, the Department of Commerce (the Department) published in the Federal Register its initiation of the antidumping duty administrative review of certain frozen warmwater shrimp from Ecuador for the period August 4, 2004, through January 31, 2006. See Notice of Initiation of Administrative Reviews of the Antidumping Duty Orders on Certain Frozen Warmwater Shrimp from Brazil, Ecuador, India and Thailand, 71 FR 17819 (April 7, 2006) (Initiation Notice). We initiated a review for Exporklore Exports & Representacion, based on a request for review from the petitioners, the Ad Hoc Shrimp Trade Action Committee. Exporklore, S.A. (Exporklore) also requested a review of its sales, but this company name was inadvertently omitted from the Initiation Notice. The Department subsequently confirmed that the correct name for Exporklore Exports & Representacion is Exporklore, S.A. To correct the omission of the company name Exporklore, S.A. from the Initiation Notice, we are now issuing this notice of amended initiation of the 2004-2006 antidumping duty administrative review of certain frozen warmwater shrimp from Ecuador as noted above. As a result of this correction, we are initiating the 2004-2006 administrative review with respect to Exporklore, S.A.

Although we are now amending our initiation notice to include Exporklore, S.A., the Department is not conducting a review of Exporklore's sales in this administrative review because on June 30, 2006, Exporklore filed a timely request for the withdrawal of its requested review. Because of this withdrawal request, on July 20, 2006, the Department published in the Federal Register its notice of partial rescission. See Certain Frozen Warmwater Shrimp from Ecuador; Partial Rescission of Antidumping Duty Administrative Review, 71 FR 41198 (July 20, 2006) (Partial Rescission). Our amended initiation notice does not supercede the prior rescission of Exporklore in the Partial Rescission notice issued on July 20, 2006.

On June 30, 2006, the petitioners withdrew their administrative review request with respect to Exporklore Exports & Representacion. However, we inadvertently omitted this company name from the Partial Rescission. Therefore, we are now issuing this notice of amended partial rescission of the 2004-2006 antidumping duty administrative review of certain frozen warmwater shrimp from Ecuador to rescind the 2004-2006 administrative review for Exporklore Exports & Representacion.

This amended initiation and partial rescission is issued and published in accordance with section 751 of the Tariff Act of 1930, as amended, and 19 CFR 351.213(d)(4).

Dated: September 13, 2006.
Stephen J. Claeys,
Deputy Assistant Secretary for Import Administration.

[FR Doc. E6-15545 Filed 9-18-06; 8:45 am]

BILLING CODE 3510-DS-P